DEPARTMENT OF ENERGY

Federal Energy Regulatory Commission

[Docket No. CP12-5-000]

Trunkline Gas Company, LLC, Sea Robin Pipeline Company, LLC; Notice of Application

Take notice that on October 7, 2011, Trunkline Gas Company, LLC (Trunkline) and Sea Robin Pipeline Company, LLC (Sea Robin), together referred to as Applicants, both located at 5444 Westheimer Road, Houston, Texas 77056-5306, filed jointly in Docket No. CP12-5-000 an application, pursuant to sections 7(b) and 7(c) of the Natural Gas Act (NGA), for permission and approval for Trunkline to abandon by sale to Sea Robin and for Sea Robin to acquire certain natural gas facilities located offshore Louisiana and Texas in the Gulf of Mexico and onshore in the State of Louisiana, all as more fully set forth in the application which is on file with the Commission and open to public inspection.

Specifically, Trunkline's facilities to be transferred to Sea Robin include: (1) Facilities extending from Vermilion Block 23 offshore Louisiana to Trunkline's onshore Kaplan Compressor Station in Vermilion Parish, Louisiana (Vermilion System); (2) facilities extending from South Marsh Island Block 268, Ship Shoal Block 274, Ewing Bank Block 826 and Grand Isle Block 82 offshore Louisiana to Trunkline's onshore Patterson Compressor Station in St. Mary Parish, Louisiana (Terrebonne System); and (3) Trunkline's 33.33 percent ownership interest in non-contiguous facilities located in Brazos Area Block A-47 offshore Texas (Brazos A-47 System). Upon completion of the transfer, Trunkline will no longer have any offshore facilities. Applicants also propose changes to their tariffs to reflect the transfer of the facilities and commencement of service on those facilities under Sea Robin's tariff.

Any questions regarding the application should be directed to Stephen T. Veatch, Sr., Director, Certificates and Tariffs, Trunkline Gas Company, LLC, P.O. Box 4967, Houston, Texas 77210-4967, or by calling (713) 989-2024, or by email at stephen.veatch@sug.com.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy Regulatory Commission, 888 First Street, NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: November 10, 2011.

Dated: October 20, 2011.
Kimberly D. Bose,
Secretary.

[FR Doc. 2011-27831 Filed 10-26-11; 8:45 am]

BILLING CODE 6717-01-P